DEPARTMENT OF HEALTH AND HUMAN SERVICES

Administration for Children and Families

Office of Refugee Resettlement

[CFDA Number: 93.676]

Announcement of the Award of Five Urgent Single-Source Grants To Support Shelter Care for Unaccompanied Alien Children's Program

AGENCY: Office of Refugee Resettlement, ACF, HHS.

ACTION: The Office of Refugee Resettlement (ORR) announces the award of five urgent single-source grants from the Unaccompanied Alien Children's (UAC) Program to Abbott House in Irving, NY, Board of Child Care in Baltimore, MD, Children's Home of Poughkeepsie in Poughkeepsie, NY, Gulf Coast Jewish Family Services in Tampa, FL, and Neighbor to Family in Daytona Beach, FL.

SUMMARY: The Administration for Children and Families (ACF), Office of Refugee Resettlement (ORR) announces the award of five (5) urgent single awards to the following organizations.

Organization | Location | Amount
Abbott House | Irvington, NY | $2,983,200
Board of Child Care | Baltimore, MD | 2,387,200
Children's Home of Poughkeepsie | Poughkeepsie, NY | 775,361
Gulf Coast Jewish Family Services | Tampa, FL | 958,424
Neighbor to Family | Daytona Beach, FL | 2,727,525

These urgent single awards will support the expansion of bed capacity and supportive services to meet the number of unaccompanied alien children referrals from the Department of Homeland Security (DHS). The funding program is mandated by section 462 of the Homeland Security Act to ensure appropriate placement of all referrals from DHS. The program is tied to DHS apprehension strategies and sporadic number of border crossers. Award funds will support services to unaccompanied alien children through September 30, 2014.

DATES: The period of support under these supplements is June 1, 2014 through September 30, 2014.

FOR FURTHER INFORMATION CONTACT: Jallyn Sualog, Acting Director, Division of Children's Services, Office of Refugee Resettlement, 901 D Street SW., Washington, DC 20447, Telephone (202) 401-4997. Email: jallyn.sualog@acf.hhs.gov.

SUPPLEMENTARY INFORMATION: Since the beginning of FY 14, the UAC program has seen a dramatic increase in the number of DHS referrals. Initially, the ORR FY 14 bed capacity needs were projected to be similar to FY 13 record high bed capacity levels and were based on approximately 25,000 placements and approximately 5,000 beds.

The influx of border crossers referred by DHS has grown beyond anticipated rates and has resulted in the program needing a significant increase in the number of shelter beds and supportive services (increased transportation costs, compensation for staff overtime, and additional hiring of staff). Based on the increase in referrals from DHS, ORR now projects approximately 60,000 referrals for FY14, over 100% increase from the originally projected 25,000 for FY 14.

Statutory Authority: Section 462 of the Homeland Security Act, (6 U.S.C. 279) and sections 235(c) and 235(d) of the William Wilberforce Trafficking Victims Protection Reauthorization Act of 2008, (8 U.S.C. 1232(c) and 1232(d)).

Christopher Beach,
Senior Grants Policy Specialist, Office of Administration.

[FR Doc. 2014-16478 Filed 7-14-14; 8:45 am]

BILLING CODE 4184-45-P